OFFICE OF PERSONNEL MANAGEMENT

Proposed Collection; Comment Request Review of a Revised Information Collection; OPM 1417

AGENCY: Office of Personnel Management.

ACTION: Notice.

SUMMARY: In accordance with the Paperwork Reduction Act of 1995 (Public Law 104-13, May 22, 1995), this notice announces that the Office of Personnel Management intends to submit to the Office of Management and Budget a request for clearance of a revised information collection. OPM Form 1417, CFC Online Results Report, is used to record Combined Federal Campaign pledge results from each campaign office locally.

Each year, approximately 1.5 million Federal employees make donations to the CFC. These donations are managed by approximately 370 Principle Combined Fund Organizations (PCFOs) across the country. The Form 1417 is submitted by every PCFO annually to report these donations. Each form takes approximately 20 minutes to complete. The annual estimated burden is 124 hours.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey on 202/606-8358, or E-mail to mbtoomey@opm.gov. Please include your mailing address with your request.

DATES: Comments on this proposal should be received on or before September 24, 2001.

ADDRESSES: Send or deliver comments to: Elizabeth Barber, Office of CFC Operations, U.S. Office of Personnel Management, 1900 E Street, NW., Room 5450, Washington, DC 20415.

For information regarding administrative coordination contact: Elizabeth Barber, Office of CFC Operations, U.S. Office of Personnel Management, 1900 E Street, NW., Room 5450, Washington, DC 20415, (202) 606-2564.

U.S. Office of Personnel Management.
Steven R. Cohen,
Acting Director.

[FR Doc. 01-18351 Filed 7-23-01; 8:45 am]

BILLING CODE 6325-46-P